DEPARTMENT OF THE INTERIOR

Bureau of Ocean Energy Management

[BOEM-2012-0006]

Commercial Lease of Submerged Lands for Renewable Energy Development on the Outer Continental Shelf

AGENCY: Bureau of Ocean Energy Management, Interior.

ACTION: Notice.

SUMMARY: The Bureau of Ocean Energy Management (BOEM) will use Form 0008 to issue commercial renewable energy leases on the Outer Continental Shelf (OCS). In the preamble to the April 29, 2009, Final Rule, “Renewable Energy and Alternate Uses of Existing Facilities on the Outer Continental Shelf,” BOEM stated that “we intend to develop a model lease form through a public process that will invite all interested and affected parties for their input.” (74 FR 19638, April 29, 2009).

The BOEM developed a draft of the form included in this Notice, and published it in the Federal Register (76 FR 55090, September 6, 2011) with a 30-day comment period (Draft Form). BOEM has reviewed all the comments received and revised the Draft Form where appropriate. For further information, including summaries of comments and BOEM's response to those comments, visit BOEM's Web site, at http://www.boem.gov/Renewable-Energy-Program/Regulatory-Information/Index.aspx.

DATES: The lease form will be effective and available for use on February 21, 2012.

FOR FURTHER INFORMATION CONTACT: Maureen A. Bornholdt, Program Manager, Office of Renewable Energy Programs, at (703) 787-1300 for lease questions.

Dated: January 23, 2012.
Tommy P. Beaudreau,
Director, Bureau of Ocean Energy Management.

BILLING CODE 4310-VH-P

[FR Doc. 2012-2496 Filed 2-2-12; 8:45 am]

BILLING CODE 4310-VH-C